FEDERAL COMMUNICATIONS COMMISSION

[Report No. AUC-03-52-B (Auction No. 52); DA 03-1926]

Auction of Direct Broadcast Satellite Service Licenses (Auction No. 52) Is Postponed

AGENCY: Federal Communications Commission.

ACTION: Notice.

SUMMARY: This document announces the postponement of Auction No. 52.

DATES: Auction No. 52 which was scheduled to begin on August 6, 2003, is postponed.

FOR FURTHER INFORMATION CONTACT: Brian Carter, Auctions and Industry Analysis Division, at (202) 418-0660, or Lisa Stover, Auctions Operations Branch, at (717) 338-2888.

SUPPLEMENTARY INFORMATION: The auction of licenses to use the Direct Broadcast Satellite (“DBS”) service allocation (Auction No. 52), previously scheduled to begin on August 6, 2003, will be delayed pending Commission resolution of certain issues on which it has sought comment. Specifically, on March 3, 2003, the Commission sought comment on its conclusion that the DBS licenses that will be offered in Auction No. 52 are not subject to the auction prohibition of the ORBIT Act and on whether it should adopt eligibility restrictions for any of these licenses. Following the Commission's resolution of these issues, the Wireless Telecommunications Bureau will release a public notice announcing key dates for Auction No. 52.

Federal Communications Commission.
Margaret Wiener,
Chief, Auctions and Industry Analysis Division, WTB.

[FR Doc. 03-15581 Filed 6-19-03; 8:45 am]

BILLING CODE 6712-01-P